DEPARTMENT OF COMMERCE

National Institute of Standards and Technology

Advanced Technology Program; Announcement of a Public Meeting

AGENCY: National Institute of Standards and Technology, Commerce.

ACTION: Notice of public meeting.

SUMMARY: The National Institute of Standards and Technology (NIST) invites interested parties to attend the Hampton University's Second Annual Technology Conference co-sponsored by the Advanced Technology Program (ATP) and Hampton University, Hampton, Virginia. ATP provides cost-shared funding to industry to accelerate the development of challenging, high-risk, innovative technologies that promise broad-based economic benefits for the nation.

DATES: The Technology Conference will be held on April 3, 2002, from 6:00 p.m. to 8:30 p.m. The Meeting will continue on April 4, 2002, from 8:00 a.m. to 8:00 p.m. and on April 5, 2002, from 8:00 a.m. to 1:30 p.m.

ADDRESSES: The meeting will be held at the Hampton University Student Center, Hampton, Virginia.

FOR FURTHER INFORMATION CONTACT: For further information or registration questions, contact Ms. Adrienna Davis at (757) 728-6927 or email at HUTC2002@hamptonu.edu, subject heading HUTC2002. For information about the ATP contact Toni Nashwinter at (301) 975-3780 or email at toni.nashwinter@nist.gov.

SUPPLEMENTARY INFORMATION: The ATP statute originated in the Omnibus Trade and Competitiveness Act of 1988 (Public Law 100-418, 15 U.S.C. 278n), and was amended by the American Technology Preeminence Act of 1991 (Public Law 102-245). This law has been codified at 15 U.S.C. 278n. The ATP implementing regulations are published at 15 CFR part 295, as amended. The ATP is a competitive cost-sharing program designed for the Federal government to work in partnership with industry, universities, and states to accelerate the development and broad dissemination of challenging, high-risk technologies that offer the potential for significant commercial payoffs and widespread benefits for the nation.

The Technology Conference title, “Are You Sure, It is Secure?” and “How to Secure Your Share of Federal Funding,” will consist of three Tracks. The Advanced Technology Program will host a robust track on Advanced Technology Development and Commercialization Opportunities. This track will focus on information about the over $1 billion of funding opportunities available for advanced technology research from Federal government agencies. Sessions will emphasize and highlight minority businesses' and universities' participation in these programs. Hampton University will host two tracks, the first “Cyber Crimes: An In-depth Understanding”, and the second, “Information Security and Assurance.”

Information on the meeting agenda and the registration requirements can be found at the ATP website at www.atp.nist.gov with a link to the Hampton website or visit the Hampton Website at www.hamptonu.edu and click on ‘Hot News’ to learn about this Conference and to access the registration form. There is a registration fee of $250 if postmarked by March 15; $300 on-site registration fee, and $100 fee for students.

Dated: February 26, 2002.
Karen H. Brown,
Deputy Director.

[FR Doc. 02-5236 Filed 3-4-02; 8:45 am]

BILLING CODE 3510-13-P